SMALL BUSINESS ADMINISTRATION

[Declaration of Disaster #3354]

State of Virginia

As a result of the President's major disaster declaration on July 12, 2001, I find that Tazewell County in the State of Virginia constitutes a disaster area due to damages caused by Severe Storms and Flooding occurring on July 8 through 10, 2001. Applications for loans for physical damage as a result of this disaster may be filed until the close of business on September 10, 2001 and for economic injury until the close of business on April 12, 2002 at the address listed below or other locally announced locations: U.S. Small Business Administration, Disaster Area 1 Office, 360 Rainbow Blvd., South 3rd Fl., Niagara Falls, NY 14303-1192.

In addition, applications for economic injury loans from small businesses located in the following contiguous counties in Virginia may be filed until the specified date at the above location: Bland, Buchanan, Russell and Smyth; and McDowell and Mercer counties in the State of West Virginia.

The interest rates are:

| In percent
For physicial damage
Homeowners with credit available elsewhere | 6.625
Homeowners without credit available elsewhere | 3.312
Businesses with credit available elsewhere | 8.000
Businesses and non-profit organizations without credit available elsewhere | 4.000
Others (including non-profit organizations) with credit available elsewhere | 7.125
For economic injury
Businesses and small agricultural cooperatives without credit available elsewhere | 4.000

The number assigned to this disaster for physical damage is 335406. For economic injury the number is 9M1700 for Virginia and 9M1800 for West Virginia.

(Catalog of Federal Domestic Assistance Program Nos. 59002 and 59008)
Dated: July 13, 2001.
James E. Rivera,
Acting Associate Administrator for Disaster Assistance.

[FR Doc. 01-18180 Filed 7-19-01; 8:45 am]

BILLING CODE 8025-01-P